DEPARTMENT OF HEALTH AND HUMAN SERVICES

[Document Identifier: OS-0990-new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 23, 2023.

ADDRESSES: Submit your comments to Sherrette.Funn@hhs.gov or by calling (202) 264-0041 and PRA@HHS.GOV.

FOR FURTHER INFORMATION CONTACT: When submitting comments or requesting information, please include the document identifier 0990-New-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Customer Experience in The Office of the Assistant Secretary for Financial Resources Service Delivery.

Type of Collection: Quantitative & Qualitative.

OMB No.: 0990-new.

Abstract: The U.S. Department of Health and Human Services (HHS) Office of the Assistant Secretary for Financial Resources (ASFR) is requesting OMB approval for the Customer Experience in The Office of the Assistant Secretary for Financial Resources Service Delivery initiative. The proposed information collection activity provides a means to garner quantitative and qualitative customer and stakeholder feedback in an efficient, timely manner, in accordance with the Administration's commitment to improving access to and service delivery. This feedback will (1) provide insights into customer or stakeholder perceptions, experiences and expectations; (2) provide a warning of issues that create barriers to funding or the system to deliver them; and (3) focus attention on areas where communication, training or changes in operations might improve delivery of such opportunities and services. These voluntary collections will allow for ongoing, collaborative and actionable communications between HHS and its customers and stakeholders. It will also allow feedback to contribute directly to the improvement of program management.

The solicitation of feedback will target areas such as: (1) legibility, readability, comprehension, and accessibility and inclusion of ASFR services; (2) timeliness, appropriateness, and accuracy of information within services delivered by ASFR; (3) efficiency of service delivery, and resolution of issues with service delivery; and (4) any other reasonable area of exploration engendered by this review. Responses will be assessed to plan and inform efforts to improve or maintain the quality of service offered to the public.

The collections are low-burden for respondents (based on considerations of total burden hours, total number of respondents, or burden-hours per respondent) and are low-cost for both the respondents and the Federal Government. Moreover, Personally identifiable information (PII) will be collected only to the extent necessary. If this information is not collected, vital feedback from customers and stakeholders on the Agency's services will be unavailable. Such assessments would better equip HHS to develop policies and programs that deliver resources and benefits equitably to all.

Annualized Burden Hour Table
Forms (if necessary) | Respondents (if necessary) | Number of respondents | Number of responses per respondents | Average burden per response within hrs. | Total burden hours
Applicant Survey | HHS Potential Applicant | 1,000 | 1 | 15/60 | 250
Testing Session | HHS Potential Applicant | 300 | 1 | 1.5 | 450
Individual In-Depth Interviews | HHS Applicant/HHS Staff | 200 | 1 | 1 | 200
Focus Group | HHS Applicant/HHS Staff | 200 | 1 | 1 | 200
Total |  |  |  |  | 1,100

Sherrette A. Funn,
Paperwork Reduction Act Reports Clearance Officer, Office of the Secretary.

[FR Doc. 2023-08568 Filed 4-21-23; 8:45 am]

BILLING CODE 4150-04-P